DEPARTMENT OF HOMELAND SECURITY

Federal Emergency Management Agency

[Docket ID FEMA-2016-0002]

Final Flood Hazard Determinations

AGENCY: Federal Emergency Management Agency, DHS.

ACTION: Final notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management 4Agency's (FEMA's) National Flood Insurance Program (NFIP). In addition, the FIRM and FIS report are used by insurance agents and others to calculate appropriate flood insurance premium rates for buildings and the contents of those buildings.

DATES: The effective date of March 7, 2017 which has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at www.msc.fema.gov by the effective date indicated above.

FOR FURTHER INFORMATION CONTACT: Rick Sacbibit, Chief, Engineering Services Branch, Federal Insurance and Mitigation Administration, FEMA, 400 C Street SW., Washington, DC 20472, (202) 646-7659, or (email) patrick.sacbibit@fema.dhs.gov; or visit the FEMA Map Information eXchange (FMIX) online at www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at www.msc.fema.gov. The flood hazard determinations are made final in the watersheds and/or communities listed in the table below.

(Catalog of Federal Domestic Assistance No. 97.022, “Flood Insurance.”)

Dated: November 16, 2016.
Roy E. Wright,
Deputy Associate Administrator for Insurance and Mitigation, Department of Homeland Security, Federal Emergency Management Agency.

I. Watershed-based studies:

Community | Community map repository address
Cuyahoga Watershed
Portage County, Ohio and Incorporated Areas
Docket No.: FEMA-B-1532
City of Kent | Building Services Division, 930 Overholt Road, Kent, OH 44240.
Unincorporated Areas of Portage County | Portage County Building Department, 449 South Meridian Street, 1st Floor, Ravenna, OH 44266.

II. Non-watershed-based studies:

Community | Community map repository address
Sonoma County, California and Incorporated Areas
Docket No.: FEMA-B-1553
Unincorporated Areas of Sonoma County | County Permit and Resource Management, 2550 Ventura Avenue, Santa Rosa, CA 95403.
Sussex County, Delaware and Incorporated Areas
Docket No.: FEMA-B-1530
Town of South Bethany | Town Hall, Office of the Code Constable, 402 Evergreen Road, South Bethany, DE 19930.
Minnehaha County, South Dakota and Incorporated Areas
Docket No.: FEMA-B-1543
City of Sioux Falls | City Hall, 224 West 9th Street, Sioux Falls, SD 57117.
Unincorporated Areas of Minnehaha County | Minnehaha County Planning Department, 415 North Dakota Avenue, Sioux Falls, SD 57104.
Island County, Washington and Incorporated Areas
Docket No.: FEMA-B-1532
City of Langley | City Hall, 112 2nd Street, Langley, WA 98260.
City of Oak Harbor | City Hall, 865 Southeast Barrington Drive, Oak Harbor, WA 98260.
Town of Coupeville | Town Hall, 4 Northeast 7th Street, Coupeville, WA 98239.
Unincorporated Areas of Island County | Island County Annex, 1 Northeast 6th Street, Coupeville, WA 98239.
Pierce County, Washington and Incorporated Areas
Docket No.: FEMA-B-1511
City of Bonney Lake | Justice and Municipal Center, 9002 Main Street East, Suite 300, Bonney Lake, WA 98391.
City of Buckley | Planning and Building Department, 811 Main Street, Buckley, WA 98321.
City of Dupont | City Hall, 1700 Civic Drive, Dupont, WA 98327.
City of Edgewood | City Hall, 2224 104th Avenue East, Edgewood, WA 98372.
City of Fife | City Hall, 5411 23rd Street, Fife, WA 98424.
City of Fircrest | Planning and Building Department, 115 Ramsdell Street, Fircrest, WA 98466.
City of Gig Harbor | City Clerk's Office, 3510 Grandview Street, Gig Harbor, WA 98335.
City of Lakewood | City Hall, 6000 Main Street Southwest, Lakewood, WA 98499.
City of Milton | Public Works Department, 1000 Laurel Street, Milton, WA 98354.
City of Orting | City Hall, 110 Train Street Southeast, Orting, WA 98360.
City of Puyallup | City Hall, 333 South Meridian, Puyallup, WA 98371.
City of Roy | City Hall, 216 McNaught Street South, Roy, WA 98580.
City of Ruston | City Hall, 5117 North Winnifred Street, Ruston, WA 98407.
City of Sumner | City Hall, Public Works Counter, 1104 Maple Street, Sumner, WA 98390.
City of Tacoma | Munincipal Building, 747 Market Street, Tacoma, WA 98402.
City of University Place | City Hall, 3715 Bridgeport Way West, Suite B-1, University Place, WA 98466.
Town of Eatonville | Town Hall, 201 Center Street West, Eatonville, WA 98328.
Town of South Prairie | Town Hall, 121 Northwest Washington Street, South Prairie, WA 98385.
Town of Steilacoom | Public Works Building, 1030 Roe Street, Steilacoom, WA 98388.
Town of Wilkeson | Town Hall, 540 Church Street, Wilkeson, WA 98396.
Unincorporated Areas of Pierce County | Pierce County Annex, 2401 South 35th Street, Tacoma, WA 98409.
Kenosha County, Wisconsin and Incorporated Areas
Docket No.: FEMA-B-1542
Village of Pleasant Prairie | Village Hall, 9915 39th Avenue, Pleasant Prairie, WI 53158.

[FR Doc. 2016-28525 Filed 11-25-16; 8:45 am]

BILLING CODE 9110-12-P